DEPARTMENT OF DEFENSE

Office of the Secretary

[Docket ID: DoD-2024-OS-0109]

Submission for OMB Review; Comment Request

AGENCY: Office of the Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense Materiel Disposition Procedures for the Sale of DoD Materiel; DLA Form 2536; OMB Control Number 0704-0534.

Type of Request: Revision.

Number of Respondents: 102.

Responses per Respondent: 1.

Annual Responses: 102.

Average Burden per Response: 90 minutes.

Annual Burden Hours: 153.

Needs and Uses: This collection is necessary for the DoD and its representatives to assess the ability of prospective purchasers to comply with applicable laws and regulations before the sale of materiel. Defense Logistics Agency (DLA) Form 2536, “Statement of Intent,” is used to identify the nature of the purchaser's business, where the materials will be stored, and what the buyer's intentions are with the materiel (i.e., use the materiel as intended, re-sell to others, scrap the materiel for recovery of contents, or re-refine or re-process the materiel).

Affected Public: Business or other for-profit.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00288 Filed 1-8-25; 8:45 am]

BILLING CODE 6001-FR-P